DEPARTMENT OF ENERGY

Federal Energy Regulatory Commission

Combined Notice of Filings #1

August 11, 2005.

Take notice that the Commission received the following electric rate filings.

Docket Numbers: ER95-1007-019.

Applicants: Logan Generating Company, LP.

Description: Logan Generating Company, LP submits a notification of a change in status.

Filed Date: 08/03/2005.

Accession Number: 20050805-0278.

Comment Date: 5 p.m. eastern time on Wednesday, August 24, 2005.

Docket Numbers: ER99-754-012; EL05-132-000.

Applicants: AmerGen Energy Company, LLC.

Description: AmerGen Energy Company, LLC submits an amendment to its market-based rate tariffs adding a Statement of Policy and Code of Conduct with respect to the relationship between AmerGen and the Public Service Electric and Gas Company.

Filed Date: 08/04/2005.

Accession Number: 20050808-0209.

Comment Date: 5 p.m. eastern time on Thursday, August 25, 2005.

Docket Numbers: ER00-3251-010; EL05-132-000.

Applicants: Exelon Generation Company, LLC.

Description: Exelon Generation Company, LLC submits an amendment to its market-based tariffs adding a Statement of Policy and Code of Conduct with respect to the relationship between Exelon and Public Service Electric and Gas Company.

Filed Date: 08/04/2005.

Accession Number: 20050808-0207.

Comment Date: 5 p.m. eastern time on Thursday, August 25, 2005.

Docket Numbers: ER01-1919-007; EL01-132-000.

Applicants: Exelon Energy Company.

Description: Exelon Energy Company submits an amendment to its market-based tariffs adding a Statement of Policy and Code of Conduct with respect to the relationship between Exelon and Public Service Electric and Gas Company.

Filed Date: 08/04/2005.

Accession Number: 20050808-0208.

Comment Date: 5 p.m. eastern time on Thursday, August 25, 2005.

Docket Numbers: ER01-2460-004; ER01-2482-004.

Applicants: PSEG Lawrenceburg Energy Company LLC; PSEG Waterford Energy LLC.

Description: PSEG Lawrenceburg Energy Co, LLC submits revised tariff sheets in compliance with the Commission's order issued 7/5/05 in Docket No. ER01-2460-002, et al.

Filed Date: 08/03/2005.

Accession Number: 20050805-0152.

Comment Date: 5 p.m. eastern time on Wednesday, August 24, 2005.

Docket Numbers: ER02-41-007.

Applicants: North Western Energy Marketing, LLC.

Description: NorthWestern Energy Marketing, LLC submits First Revised Sheet Nos. 1 and 4 of its FERC Electric Tariff, First Revised Volume No. 1, in compliance with the Commission's order issued 7/2/05 in Docket No. ER03-329-006 and ER02-41-006.

Filed Date: 08/04/2005.

Accession Number: 20050805-0269.

Comment Date: 5 p.m. eastern time on Thursday, August 25, 2005.

Docket Numbers: ER02-246-003; ER98-1992-003.

Applicants: Boston Edison Company; Cambridge Electric Light Company; Commonwealth Electric Company; Medical Area Total Energy Plant, Inc.

Description: Boston Edison Company, Cambridge Electric Light Company, Commonwealth Electric Company and Medical Area Total Energy Plant, Inc. submit an updated market power analysis and revised market-based rate tariffs.

Filed Date: 08/01/2005.

Accession Number: 20050805-0280.

Comment Date: 5 p.m. eastern time on Monday, August 22, 2005.

Docket Numbers: ER03-329-007.

Applicants: NorthWestern Energy.

Description: NorthWestern Corporation d/b/a NorthWestern Energy submits Original Sheet Nos. 1 through 6 of its FERC Electric Tariff, Third Revised Volume 6, in compliance with the Commission's Order issued 7/2/05 in Docket Nos. ER03-329-006 and ER02-41-006.

Filed Date: 08/04/2005.

Accession Number: 20050805-0267.

Comment Date: 5 p.m. eastern time on Thursday, August 25, 2005.

Docket Numbers: ER05-1014-002; ER98-3184-010; ER00-494-003.

Applicants: TransAlta Energy Marketing (US) Inc.; TranAlta Centralia Generation LLC.

Description: TransAlta Energy Marketing (US) Inc. and TransAlta Centralia Generator LLC submit amendments to its 5/24/05 filing in Docket No. ER05-1014-001, et al.

Filed Date: 08/03/2005.

Accession Number: 20050805-0154.

Comment Date: 5 p.m. eastern time on Wednesday, August 24, 2005.

Docket Numbers: ER05-1284-000.

Applicants: Pacific Gas & Electric Company.

Description: Pacific Gas and Electric Co. submits proposed rate changes for wholesale and retail electric transmission rates shown in Appendices I, II and III of its Transmission Owner Tariff.

Filed Date: 08/01/2005.

Accession Number: 20050809-0211.

Comment Date: 5 p.m. eastern time on Monday, August 22, 2005.

Docket Numbers: ER05-1287-000.

Applicants: Southern California Edison Company.

Description: Southern California Edison Company submits the Inland Empire Energy Center Generation Tie-Line Facilities Agreement and the Interconnection Facilities Agreement with the Inland Empire Energy Center LLC.

Filed Date: 08/03/2005.

Accession Number: 20050805-0170.

Comment Date: 5 p.m. eastern time on Wednesday, August 24, 2005.

Docket Numbers: ER05-1290-000.

Applicants: New York Independent System Operator, Inc.

Description: New York Independent System Operator, Inc. submits proposed revisions to its Open Access Transmission Tariff.

Filed Date: 08/04/2005.

Accession Number: 20050805-0271.

Comment Date: 5 p.m. eastern time on Thursday, August 25, 2005.

Docket Numbers: ER05-1291-000.

Applicants: New York Independent System Operator, Inc.

Description: New York Independent System Operator, Inc. submits proposed revisions to its Market Administration and Control Area Services Tariff.

Filed Date: 08/04/2005.

Accession Number: 20050805-0270.

Comment Date: 5 p.m. eastern time on Thursday, August 25, 2005.

Docket Numbers: ER05-1292-000.

Applicants: PJM Interconnection, L.L.C.

Description: PJM Interconnection, L.L.C. submits an executed interconnection service agreement and executed construction service agreement with Nedpower Mount Storm, LLC and the Potomac Edison Company d/b/a Allegheny Power.

Filed Date: 08/04/2005.

Accession Number: 20050808-0210.

Comment Date: 5 p.m. eastern time on Thursday, August 25, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4464 Filed 8-16-05; 8:45 am]

BILLING CODE 6717-01-P